DEPARTMENT OF HOUSING AND URBAN DEVELOPMENT

[Docket No. FR-5285-N-01]

Notice of Proposed Information Collection: Comment Request

Housing Counseling Program

AGENCY: Office of the Assistant Secretary for Housing—Federal Housing Commissioner, HUD.

ACTION: Notice.

SUMMARY: The proposed information collection requirement described below will be submitted to the Office of Management and Budget (OMB) for review, as required by the Paperwork Reduction Act. The Department is soliciting public comments on the subject proposal.

DATES: Comments Due Date: March 13, 2009.

ADDRESSES: Interested persons are invited to submit comments regarding this proposal. Comments should refer to the proposal by name and/or OMB Control Number and should be sent to: Lillian Deitzer, Departmental Reports Management Officer, QDAM, Department of Housing and Urban Development, 451 7th Street, SW., Washington, DC 20410; e-mail Lillian_L._Deitzer@HUD.gov or telephone (202) 402-8048.

FOR FURTHER INFORMATION CONTACT: Brian Siebenlist, Deputy Director, Office of Single Family Program Support Division, Department of Housing and Urban Development, 451 7th Street, SW., Washington, DC 20410, telephone (202) 402-5415 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Housing Counseling Program.

OMB Control Number, if applicable: 2502-0261.

Description of the need for the information and proposed use: Nonprofit organizations will submit information to HUD through Grants.gov to apply for funding to provide various kinds of housing counseling assistance. HUD will use the information to evaluate applicants competitively and then select organizations to receive funding to supplement their housing counseling program. The proposed collection will allow HUD to evaluate and select the most qualified applicant(s). Post-award collection, such as quarterly reports, will allow HUD to evaluate grantee performance. This collection of information also includes renewal of various HUD forms, including form HUD-9900, the Housing Counseling Approval Application, and form HUD-9902, Housing Counseling Agency Activity Report. Additionally, it covers the collection of client level data and agency profile data.

Agency form numbers, if applicable: SF-424, SF-424Supp, SF-424CB, SF-LLL, HUD-27300, HUD-2880, HUD-2990, HUD-2991, HUD-2994, HUD-96010, HUD-9902.

Estimation of the total number of hours needed to prepare the information collection including number of respondents, frequency of response, and hours of response: The estimated total number of hours needed to prepare the information collection is 36,320; the number of respondents is 12,450 generating approximately 39,980 annual responses; the frequency of response is on occasion or quarterly; and the estimated time needed to prepare the response is approximately 49 hours.

Status of the proposed information collection: This is extension of an already approved information collection.

Authority: The Paperwork Reduction Act of 1995, 44 U.S.C., Chapter 35, as amended.

Dated: January 6, 2009.
Ronald Y. Spraker,
Acting General Deputy Assistant Secretary for Housing—Deputy Federal Housing Commissioner.

[FR Doc. E9-388 Filed 1-9-09; 8:45 am]

BILLING CODE 4210-67-P